DEPARTMENT OF STATE

[Public Notice 5433]

Notice of Public Meeting on FY 2007 Refugee Admissions Program

There will be a meeting on the President's FY 2007 Refugee Admissions Program on Wednesday, June 28, 2006 from 2 p.m. to 4 p.m. The meeting will be held at the Refugee Processing Center, 1401 Wilson Boulevard, Suite 700, Arlington, Virginia. The meeting's purpose is to hear the views of attendees on the appropriate size and scope of the FY 2007 Refugee Admissions Program.

Seating is limited. Persons wishing to attend this meeting must notify the Bureau of Population, Refugees, and Migration at telephone (202) 663-1045 by 5 p.m. Wednesday, June 21, 2006, to arrange for admission. Persons wishing to present oral comments, or to submit written comments for consideration, must provide them in writing by 5 p.m. Wednesday, June 21, 2006. All comments should be faxed to PRM at (202) 663-1364.

Any questions about the public meeting should be directed to Kelly Gauger, PRM/Admissions Program Officer at (202) 663-1055. Information about the Refugee Admissions Program may be found at http://www.state.gov/g/prm/.

Dated: May 24, 2006.
Kelly Ryan,
Deputy Assistant Secretary, Department of State.

[FR Doc. E6-8624 Filed 6-1-06; 8:45 am]

BILLING CODE 4710-33-P